DEPARTMENT OF TRANSPORTATION

National Highway Traffic Safety Administration

[Docket No. NHTSA-2001-10044; Notice 3]

Reliance Trailer Co., LLC.; Receipt of Application for Renewal of Temporary Exemption From Federal Motor Vehicle Safety Standard No. 224

Reliance Trailer Co., LLC, of Spokane, Washington (Reliance), has applied for a renewal of a temporary exemption of its dump body trailer from Federal Motor Vehicle Safety Standard No. 224, Rear Impact Protection (FMVSS No. 224). In accordance with 49 U.S.C. 30113(b)(3)(B)(i), the basis of the request is that compliance would cause substantial economic hardship to a manufacturer that has made a good faith effort to comply with the standard.

We are publishing this notice of receipt of the renewal application in accordance with the requirements of 49 U.S.C. 30113(b)(2). This action does not represent any judgment of the agency on the merits of the application.

On October 22, 2001, NHTSA granted Reliance a two-year hardship exemption from the requirements of FMVSS No. 224.¹ That exemption expired on October 1, 2003. Reliance petitioned for renewal on September 24, 2003. Because Reliance did not apply for a renewal more than 60 days prior to expiration of the original exemption, the petitioner is no longer subject to the October 22, 2001 exemption.²

¹ For background information on the company please see original petition (66 FR 36032).

² See 49 CFR 555.8(e).

FMVSS No. 224 requires, effective January 26, 1998, that all trailers with a GVWR of 4536 kg or more, including Reliance's dump body trailers, be fitted with a rear impact guard that conforms to Standard No. 223, Rear Impact Guards.

In the original petition, Reliance argued that a rear impact guard prevented its trailers from properly discharging asphalt into paving equipment. According to petitioners, compliance with FMVSS No. 224 rendered their dump body trailers useless for performing their intended function. During the two-year temporary exemption period, Reliance anticipated acquiring the revenue necessary to design a complex retractable rear impact guard that would allow for proper interaction with paving equipment. However, petitioners now state that they have not been able to arrive at a practical, and economic solution for complying with the requirements of FMVSS No. 224.

In addition to their inability to design a practicable rear impact guard, Reliance experienced a significant economic downturn in the past two years. Specifically, petitioner's financial statements show a profit of $69,284 for the fiscal year 2000; an operating loss of $1,181,900 for the fiscal year 2001; and an operating loss of $2,477,700 for the 2002 fiscal year. This represents a cumulative loss for a period of 3 years of $3,590,316.³ In 2003, Reliance produced only 12 dump body trailers, which is significantly less than the output in the previous two years.

³ To see Reliance petition for renewal of their temporary exemption, please go to http://dms.dot.gov/search/searchFormSimple.cfm and enter Docket No. NHTSA-2001-10044.

Petitioners contend that the renewal of their exemption would be in the public interest for the following reasons. First, Reliance argues that denial of this petition request would reduce their payroll by 15 to 18 employees. Second, Reliance argues that an exemption would allow the company to continue providing paving equipment needed by road building industry.

Petitioners ask NHTSA to renew their exemption from the requirements of FMVSS No. 224 until February 1, 2006. According to Reliance, they will continue to seek a practicable and financially viable solution that would allow dump body trailers with rear impact guards to functionally interact with paving equipment.

How You May Comment on Reliance Application

We invite you to submit comments on the application described above. You may submit comments [identified by DOT Docket Number NHTSA 2001-10044] by any of the following methods:

• Web Site: http://dms.dot.gov. Follow the instructions for submitting comments on the DOT electronic docket site by clicking on “Help and Information” or “Help/Info.”

• Fax: 1-202-493-2251.

• Mail: Docket Management Facility, U.S. Department of Transportation, 400 Seventh Street, SW., Nassif Building, Room PL-401, Washington, DC 20590.

• Hand Delivery: Room PL-401 on the plaza level of the Nassif Building, 400 Seventh Street, SW., Washington, DC, between 9 am and 5 pm, Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov, including any personal information provided.

Docket: For access to the docket in order to read background documents or comments received, go to http://dms.dot.gov at any time or to Room PL-401 on the plaza level of the Nassif Building, 400 Seventh Street, SW., Washington, DC, between 9 am and 5 pm, Monday through Friday, except Federal Holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

We shall consider all comments received before the close of business on the comment closing date indicated below. To the extent possible, we shall also consider comments filed after the closing date. We shall publish a notice of final action on the application in the Federal Register pursuant to the authority indicated below.

Comment closing date: February 17, 2004.

FOR FURTHER INFORMATION CONTACT: George Feygin in the Office of Chief Counsel, NCC-112, (Phone: 202-366-2992; Fax 202-366-3820; E-mail: GFeygin@nhtsa.dot.gov).

(49 U.S.C. 30113; delegations of authority at 49 CFR 1.50. and 501.8)
Issued on: January 12, 2004.
Stephen R. Kratzke,
Associate Administrator for Rulemaking.

[FR Doc. 04-1061 Filed 1-15-04; 8:45 am]

BILLING CODE 4910-59-P